DEPARTMENT OF AGRICULTURE

Natural Resources Conservation Service

Broad Creek Watershed, DE

AGENCY: Natural Resources Conservation Service, Delaware.

ACTION: Notice of a finding of no significant impact.

SUMMARY: Pursuant to Section 102(2)(C) of the National Environmental Policy Act of 1969; the Council on Environmental Quality Guidelines (40 CFR part 1500); and the Natural Resources Conservation Service Guidelines (7 CFR part 650); the Natural Resources Conservation Service, U.S. Department of Agriculture, gives notice that an environmental impact statement is not being prepared for the Broad Creek Watershed, Sussex County, Delaware.

FOR FURTHER INFORMATION CONTACT: Elesa K. Cottrell, State Conservationist, Natural Resources Conservation Service (NRCS), Suite 101, 1203 College Park Dr., Dover, Delaware 19904-8713, telephone (302) 678-4160.

SUPPLEMENTARY INFORMATION: The environmental assessment of this federally assisted action indicates that the project will not cause significant local, regional, or national impacts on the environment. As a result of these findings, Elesa K. Cottrell, State Conservationist, has determined that the preparation and review of an environmental impact statement are not needed for this project.

This watershed protection plan is a plan for water quality improvement and watershed protection within the Broad Creek watershed. This will be accomplished through accelerated technical and financial assistance to plan and install needed conservation measures. These measures include agricultural waste management systems, waste storage structures, livestock composters, nutrient management, conservation buffers, and irrigation water management.

The Notice of a Finding of No Significant Impact (FONSI) has been forwarded to the Environmental Protection Agency and to various Federal, state, and local agencies and interested parties. A limited number of copies of the FONSI are available to fill single copy requests at the above address. Basic data developed during the environmental assessment and planning phase of this project are on file and may be reviewed by contacting Paul M. Petrichenko, Assistant State Conservationist, at the above address.

No administrative action on implementation of the proposal will be taken until 30 days after the date of this publication in the Federal Register.

(Catalog of Federal Domestic Assistance Program No. 10.904, Watershed Protection and Flood Prevention Program. Office of Management and Budget Circular A-95 regarding State and local clearing house review of Federal and federally assisted programs and project is applicable)
Dated: September 5, 2001.
Elesa K. Cottrell,
State Conservationist.

[FR Doc. 01-25329 Filed 10-9-01; 8:45 am]

BILLING CODE 3410-16-P